DEPARTMENT OF AGRICULTURE

Forest Service

Wallowa-Whitman National Forest, Oregon; Wallowa-Whitman National Forest Travel Management Plan

AGENCY: Forest Service, USDA.

ACTION: Revised Notice of Intent to Prepare an Environmental Impact Statement.

SUMMARY: On May 3, 2007, the USDA Forest Service, Wallowa-Whitman National Forest, published a Notice of Intent in Federal Register (72 FR 24558) to prepare an environmental impact statement (EIS) for the Forest Travel Management Plan. On June 1, 2007, a Revised Notice of Intent was published in Federal Register (72 FR 30540) extending the scoping period for receiving comments on the proposed action from June 30, 2007, to August 17, 2007. The Notice of Intent is being revised a second time to further extend the scoping period until November 16, 2007.

DATES: Written comments concerning the proposed action should be received by November 16, 2007.

FOR FURTHER INFORMATION CONTACT: Cindy Whitlock, Interdisciplinary Team Leader, Wallowa-Whitman National Forest, La Grande Ranger District, 3502 Highway 30, LaGrande, OR, 97850, Phone: (541) 962-8501.

Dated: August 2, 2007.
Steven A. Ellis,
Wallowa-Whitman National Forest Supervisor.

[FR Doc. 07-3858 Filed 8-7-07; 8:45 am]

BILLING CODE 3410-11-M